DEPARTMENT OF COMMERCE

International Trade Administration

[A-602-807; A-351-842; A-570-022; A-560-828; A-471-807; C-570-023; C-560-829]

Certain Uncoated Paper From Australia, Brazil, the People's Republic of China, Indonesia, and Portugal: Continuation of Antidumping Duty and Countervailing Duty Orders

AGENCY: Enforcement and Compliance, International Trade Administration, Department of Commerce.

SUMMARY: As a result of the determinations by the Department of Commerce (Commerce) and the International Trade Commission (ITC) that revocation of the antidumping duty (AD) orders on certain uncoated paper (uncoated paper) from Australia, Brazil, the People's Republic of China (China), Indonesia, and Portugal, and the countervailing duty (CVD) orders on uncoated paper from China and Indonesia, would likely lead to a continuation or recurrence of dumping, net countervailable subsidies, and material injury to an industry in the United States, Commerce is publishing a notice of continuation of these AD and CVD orders.

DATES: Applicable February 9, 2022.

FOR FURTHER INFORMATION CONTACT: Patrick Barton, AD/CVD Operations, Office III, Enforcement and Compliance, International Trade Administration, U.S. Department of Commerce, 1401 Constitution Avenue NW, Washington, DC 20230; telephone: (202) 482-0012.

SUPPLEMENTARY INFORMATION:

Background

On March 3, 2016, Commerce published AD orders on uncoated paper from Australia, Brazil, China, Indonesia, and Portugal, and CVD orders on uncoated paper from China and Indonesia.¹ On February 1, 2021, Commerce initiated the first five-year (sunset) reviews of the Orders pursuant to section 751(c) of the Tariff Act of 1930, as amended (the Act).² As a result of its reviews, Commerce determined that revocation of the AD Orders would likely lead to a continuation or recurrence of dumping and that revocation of the CVD Orders would likely lead to the continuation or recurrence of countervailable subsidies. Therefore, Commerce notified the ITC of the magnitude of the margins and net countervailable subsidy rates likely to prevail should the Orders be revoked.³ On February 3, 2022, the ITC published its determination, pursuant to section 751(c) of the Act, that revocation of the Orders would likely lead to a continuation or recurrence of material injury to an industry in the United States within a reasonably foreseeable time.⁴

¹ See Certain Uncoated Paper from Australia, Brazil, Indonesia, the People's Republic of China, and Portugal: Amended Final Affirmative Antidumping Determinations for Brazil and Indonesia and Antidumping Duty Orders, 81 FR 11174 (March 3, 2016) (AD Orders); see also Certain Uncoated Paper from Indonesia and the People's Republic of China: Amended Final Affirmative Countervailing Duty Determination and Countervailing Duty Order (Indonesia) and Countervailing Duty Order (People's Republic of China), 81 FR 11187 (March 3, 2016) (CVD Orders) (collectively, Orders).

² See Initiation of Five-Year (Sunset) Reviews, 86 FR 7709 (February 1, 2021).

³ See Uncoated Paper from Australia, Brazil, the People's Republic of China, Indonesia, and Portugal: Final Results of the Expedited First Sunset Reviews of the Antidumping Duty Orders, 86 FR 29248 (June 1, 2021), and accompanying Issues and Decision Memorandum (IDM); Certain Uncoated Paper from Indonesia: Final Results of the Expedited Five-Year Sunset Review of the Countervailing Duty Order; 86 FR 29243 (June 1, 2021), and accompanying IDM; and Certain Uncoated Paper from the People's Republic of China: Final Results of the Expedited Five-Year Sunset Review of the Countervailing Duty Order; 86 FR 30260 (June 7, 2021), and accompanying IDM.

⁴ See Uncoated Paper from Australia, Brazil, China, Indonesia, and Portugal, 87 FR 6203 (February 3, 2022); see also Uncoated Paper from Australia, Brazil, China, Indonesia, and Portugal (Inv. Nos. 701-TA-528-529 and 731-TA-1264-1268 (Review), USITC Publication 5275, January 2022).

Scope of the Orders

The scope of the Orders includes uncoated paper in sheet form; weighing at least 40 grams per square meter but not more than 150 grams per square meter; that either is a white paper with a GE brightness level 3 of 85 or higher or is a colored paper; whether or not surface-decorated, printed (except as described below), embossed, perforated, or punched; irrespective of the smoothness of the surface; and irrespective of dimensions (Certain Uncoated Paper).

Certain Uncoated Paper includes: (a) Uncoated free sheet paper that meets this scope definition; (b) uncoated ground wood paper produced from bleached chemi-thermo-mechanical pulp (BCTMP) that meets this scope definition; and (c) any other uncoated paper that meets this scope definition regardless of the type of pulp used to produce the paper.

Specifically excluded from the scope are: (1) Paper printed with final content of printed text or graphics; and (2) lined paper products, typically school supplies, composed of paper that incorporates straight horizontal and/or vertical lines that would make the paper unsuitable for copying or printing purposes. For purposes of this scope definition, paper shall be considered “printed with final content” where at least one side of the sheet has printed text and/or graphics that cover at least five percent of the surface area of the entire sheet.

On December 14, 2021, Commerce determined that imports of certain uncoated paper rolls that are commonly, but not exclusively, known as “sheeter rolls” from Brazil, China, and Indonesia that are further processed in the United States into individual sheets of uncoated paper that would be subject to the Orders (i.e., paper that weighs at least 40 grams per square meter but not more than 150 grams per square meter; and that either is a white paper with a GE brightness level of 83 +/−1% or higher or is a colored paper (as defined above)). The uncoated paper rolls covered by the scope of these Orders are converted into sheets of uncoated paper using specialized cutting machinery prior to printing, and are typically, but not exclusively, between 52 and 103 inches wide and 50 inches in diameter. For clarity, we herein refer to “subject-paper rolls” when referencing the certain uncoated paper rolls that may be converted into subject merchandise. Subject-paper rolls are classified under HTSUS category 4802.55.

Certain importers of the subject-paper rolls that are not converted into subject merchandise may certify that the rolls will not be further processed into subject merchandise covered by the scope of these Orders. Failure to comply with the requisite certification requirement may result in the merchandise being found subject to AD and CVD duties.⁵

⁵ See Certain Uncoated Paper from Brazil, the People's Republic of China, and Indonesia: Affirmative Final Determinations of Circumvention of the Antidumping Duty Orders and Countervailing Duty Orders for Certain Uncoated Paper Rolls, 86 FR 71025 (December 14, 2021).

Imports of the subject merchandise are provided for under Harmonized Tariff Schedule of the United States (HTSUS) categories 4802.55.1000, 4802.55.2000, 4802.55.3000, 4802.55.4000, 4802.55.6000, 4802.55.7020, 4802.55.7040, 4802.56.1000, 4802.56.2000, 4802.56.3000, 4802.56.4000, 4802.56.6000, 4802.56.7020, 4802.56.7040, 4802.57.1000, 4802.57.2000, 4802.57.3000, and 4802.57.4000. Some imports of subject merchandise may also be classified under 4802.62.1000, 4802.62.2000, 4802.62.3000, 4802.62.5000, 4802.62.6020, 4802.62.6040, 4802.69.1000, 4802.69.2000, 4802.69.3000, 4811.90.8050 and 4811.90.9080. While HTSUS subheadings are provided for convenience and customs purposes, the written description of the scope of the Orders is dispositive.

Continuation of the Orders

As a result of the determinations by Commerce and the ITC that revocation of the Orders would likely lead to a continuation or recurrence of dumping, countervailable subsidies, and material injury to an industry in the United States, pursuant to section 751(d)(2) of the Act, Commerce hereby orders the continuation of the AD orders on uncoated paper from Australia, Brazil, China, Indonesia, and Portugal, and the continuation of the CVD orders on uncoated paper from China and Indonesia. U.S. Customs and Border Protection will continue to collect AD and CVD cash deposits at the rates in effect at the time of entry for all imports of subject merchandise. The effective date of the continuation of the Orders will be the date of publication in the Federal Register of this notice of continuation. Pursuant to section 751(c)(2) of the Act, Commerce intends to initiate the next five-year reviews of the Orders not later than 30 days prior to the fifth anniversary of the effective date of continuation.

Administrative Protective Order

This notice also serves as the only reminder to parties subject to administrative protective order (APO) of their responsibility concerning the return/destruction or conversion to judicial protective order of proprietary information disclosed under APO in accordance with 19 CFR 351.305(a)(3). Failure to comply is a violation of the APO which may be subject to sanctions.

Notification to Interested Parties

These five-year (sunset) reviews and this notice are in accordance with section 751(c) of the Act and published pursuant to section 777(i)(1) of the Act.

Dated: February 3, 2022.
Lisa W. Wang,
Assistant Secretary for Enforcement and Compliance.

[FR Doc. 2022-02686 Filed 2-8-22; 8:45 am]

BILLING CODE 3510-DS-P